FEDERAL TRADE COMMISSION

Agency Information Collection Activities; Submission for OMB Review; Comment Request

AGENCY: Federal Trade Commission.

ACTION: Notice.

SUMMARY: The Federal Trade Commission (“FTC” or “Commission”) requests that the Office of Management and Budget (“OMB”) extend for an additional three years the current Paperwork Reduction Act (“PRA”) clearance for the information collection requirements in the regulations governing “Duties of Furnishers of Information to Consumer Reporting Agencies” (“Information Furnishers Rule”), which applies to certain motor vehicle dealers, and its shared enforcement with the Consumer Financial Protection Bureau (“CFPB”) of the furnisher provisions (subpart E) of the CFPB's Regulation V regarding other entities. That clearance expires on September 30, 2025.

DATES: Comments must be submitted by October 9, 2025.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: Gorana Neskovic, Attorney, Division of Privacy and Identity Protection, Bureau of Consumer Protection, (202) 326-2322, 600 Pennsylvania Ave. NW, CC-8232, Washington, DC 20580.

SUPPLEMENTARY INFORMATION:

Title: Duties of Furnishers of Information to Consumer Reporting Agencies.

OMB Control Number: 3084-0144.

Type of Review: Extension without change of a currently approved collection.

Affected Public: Private Sector: Businesses and other for-profit entities.

Estimated Annual Burden Hours: 15,423 hours.

Estimated Annual Labor Costs: $942,021.

Estimated Annual Non-Labor Costs: $0.

Abstract: The Dodd-Frank Act ¹ transferred most of the FTC's rulemaking authority for the furnisher provisions of the Fair Credit Reporting Act (“FCRA”) ² to the CFPB. The FTC, however, retains rulemaking authority for motor vehicle dealers that are predominantly engaged in the sale and servicing of motor vehicles, the leasing and servicing of motor vehicles, or both.³ In addition, the FTC retains its authority to enforce the furnisher provisions of the FCRA and rules issued under those provisions. Accordingly, the FTC and CFPB have overlapping enforcement authority for many entities subject to CFPB's Regulation V (subpart E), and the FTC has sole enforcement authority for the motor vehicle dealers subject to the FTC rule.

¹ Public Law 111-203, 124 Stat. 1376 (2010).

² 15 U.S.C. 1681 et seq.

³ See Dodd-Frank Act, sec. 1029(a), (c).

Under § 660.3 of the FTC's Information Furnishers Rule ⁴ and § 1022.42 of the CFPB Rule,⁵ furnishers must establish and implement reasonable written policies and procedures regarding the accuracy and integrity of the information relating to consumers that they furnish to a consumer reporting agency (“CRA”) for inclusion in a consumer report.⁶ Section 660.4 of the FTC Rule and § 1022.43 of the CFPB Rule require that entities which furnish information about consumers to a CRA respond to direct disputes from consumers. These provisions also require that a furnisher notify consumers by mail or other means (if authorized by the consumer) within five business days after making a determination that a dispute is frivolous or irrelevant (“F/I dispute”).

⁴ 16 CFR 660.3.

⁵ 12 CFR 1022.42.

⁶ The rule also provides that an entity is not a furnisher when it: provides information to a CRA solely to obtain a consumer report for a permissible purpose under the FCRA; is acting as a CRA as defined in section 603(f) of the FCRA; is an individual consumer to whom the furnished information pertains; or is a neighbor, friend, or associate of the consumer, or another individual with whom the consumer is acquainted or who may have knowledge about the consumer's character, general reputation, personal characteristics, or mode of living in response to a specific request from a CRA.

Request for Comment: On May 16, 2025, the Commission sought comment on the information collection requirements associated with the Information Furnishers Rule. 90 FR 21032. No relevant comments addressing the Rule's information collections were received. Pursuant to the OMB regulations, 5 CFR part 1320, the FTC is providing this second opportunity for public comment while seeking OMB approval to renew clearance for the Rule's information collection requirements.

Your comment—including your name and your state—will be placed on the public record of this proceeding. Because your comment will be made public, you are solely responsible for making sure that your comment does not include any sensitive personal information, like anyone's Social Security number, date of birth, driver's license number or other state identification number or foreign country equivalent, passport number, financial account number, or credit or debit card number. You are also solely responsible for making sure that your comment does not include any sensitive health information, like medical records or other individually identifiable health information. In addition, do not include any “[t]rade secret or any commercial or financial information which is . . . privileged or confidential” as provided in Section 6(f) of the FTC Act, 15 U.S.C. 46(f), and FTC Rule 4.10(a)(2), 16 CFR 4.10(a)(2). In particular, do not include competitively sensitive information such as costs, sales statistics, inventories, formulas, patterns devices, manufacturing processes, or customer names.

Josephine Liu,
Assistant General Counsel for Legal Counsel.

[FR Doc. 2025-17284 Filed 9-8-25; 8:45 am]

BILLING CODE 6750-01-P